FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 40901 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

AAW Global Logistics PTY Ltd. (NVO), Level 3, 55 Wellington Street, Victoria, Saint Kilda 3182 Australia, Officers: Joseph J. Pace, Director, (Qualifying Individual), Barry J. Misiurak, Director, Application Type: New NVO License.

AOG International, Inc. (NVO & OFF), 4801 Woodway Drive, #371 East, Houston, TX 77056, Officers: J. Shelli Ali, Vice President, (Qualifying Individual), Christina L. Forth-Matthews, President, Application Type: Add NVO Service.

Boacon Synergy Inc (NVO & OFF), 7933 Mill Creek Circle, West Chester, OH 45069, Officers: Benjamin O. Afolabi, President, (Qualifying Individual), Beatrice O. Afolabi, Secretary, Application Type: Add NVO Service.

Canei Group Corporation (NVO & OFF), 7241 NW 54th Street, Miami, FL 33166, Officers: Graziella M. Lobato, Director, (Qualifying Individual), Daniel D. Ferraz, Director, Application Type: Add Trade Names Kaizen World Freight and KWF Logistics.

Cars USA, Inc. dba Cars USA Logistics Inc. (OFF), 425 Bush Street, #425, San Francisco, CA 94108-3713, Officers: Fiona Spence, President, (Qualifying Individual), Richard Clark, Director, Application Type: New OFF License.

Ceva Freight, LLC dba EGL Ocean Line dba Ceva Ocean Line (NVO & OFF), 15350 Vickery Drive, Houston, TX 77032, Officers: Johnathon C. Grossgart, Vice President, (Qualifying Individual), Matthew Ryan, President, Application Type: QI Change.

Ellen Newman Logistics, L.L.C. (OFF), 920 Richmond Drive, Metairie, LA 70003, Officer: Ellen A. Newmn, Member, (Qualifying Individual), Application Type: New OFF License.

Equipsa Inc. (OFF), 2105 NW 102 Avenue, Miami, FL 33172, Officers: Isabel Montejo, Vice President, (Qualifying Individual), Arthur S. Gelfand, President, Application Type: QI Change.

Howard Thomas Exports, Inc. dba HTX International (NVO & OFF), 15535 Texaco Avenue, Paramount, CA 90723, Officers: Maximiliaan Hoes, Secretary, (Qualifying Individual), Howard T. Smith, President, Application Type: New NVO & OFF License.

Merengue Cargo Shipping Inc. (NVO), 11 Sunny Slope Terrace, Yonkers, NY 10703, Officers: Amarelis Robles, President, (Qualifying Individual), Jose O. Perdomo, Vice President, Application Type: New NVO License.

National Air Cargo, Inc. (NVO & OFF), 350 Windward Drive, Orchard Park, NY 14127, Officers: Richard T. Burke, Jr., Assistant Secretary, (Qualifying Individual), Christopher J. Alf, President, Application Type: New NVO & OFF License.

New Hope Vehicle Exports LLC (NVO & OFF), 1000 S. Market Street, Wilmington, DE 19801, Officer: Javier Marmol, Member, (Qualifying Individual), Application Type: New NVO & OFF License.

New Star Freight, Inc. dba American Freight Solutions (NVO & OFF), 14144 Central Avenue, #H, Chino, CA 91710, Officers: Xiaosong Liu, Secretary, (Qualifying Individual), Fei Yu, Director, Application Type: Transfer License to Freight Express Shipping Corporation (FESCO).

PMJ International Inc (NVO), 519 Mountainview Drive, North Plainfield, NJ 07063, Officer: Pelham Hicks, CEO, (Qualifying Individual), Application Type: New NVO License.

Seair Cargo Logistics, Inc. (NVO & OFF), 8008 NW 90th Street, Medley, FL 33166, Officer: Joaquin G. Ferrer, President, (Qualifying Individual), Application Type: New NVO & OFF License.

Tropic Import & Export, Inc. (NVO & OFF), 8338 NW 68th Street, Miami, FL 33166, Officer: Clayde M. Couto, President, (Qualifying Individual), Application Type: New NVO & OFF License.

Venezolana De Fletamentos Cavefle, LLC (NVO & OFF), 12190 NW 98 Avenue, Bay 7, Hialeah, FL 33018, Officers: Genesis Diaz, Manager, (Qualifying Individual), Veronica Alcestte, Manager Member, Application Type: New NVO & OFF License.

Worldwide Cargo Express, Inc. (OFF), 76 West 13775 South, #8, Draper, UT 84020, Officers: Dana M. Ferguson, President, (Qualifying Individual), Necia G. Clark-Mantle, CEO, Application Type: New OFF License.

By the Commission.
Dated: August 27, 2012.
Karen V. Gregory,
Secretary.

[FR Doc. 2012-21412 Filed 8-29-12; 8:45 am]

BILLING CODE 6730-01-P